DEPARTMENT OF HEALTH AND HUMAN SERVICES

National Institutes of Health

Notice of a Meeting of a Working Group of the NIH Blue Ribbon Panel

The purpose of this notice is to inform the public about a meeting of the NIH Blue Ribbon Panel to Advise on the Risk Assessment of the National Emerging Infectious Diseases Laboratories at the Boston University Medical Campus. The meeting will be held Tuesday, October 5, 2010 at the Mainstage at Roxbury Community College, 1234 Columbus Avenue, Roxbury, MA from approximately 6:30 p.m. to 10 p.m.

This public meeting is being held to provide an update to the community on the status and proposed approach of the risk assessment for the BUMC NEIDL. The meeting program will include an update and review of the ongoing supplementary risk assessment study as well as opportunity for oral public comment. In addition, at any time, members of the public may file written comments to the following address: NIH Blue Ribbon Panel, Office of the Director, National Institutes of Health, Mail Stop Code 7985, Bethesda, MD 20892-7985 or by sending an e-mail to: nih_brp@od.nih.gov.

An agenda and slides for the meeting will be posted to the NIH Blue Ribbon Panel Web site in advance of the meeting at: http://nihblueribbonpanel-bumc-neidl.od.nih.gov/. For additional information concerning this meeting, contact Ms. Kelly Fennington, Senior Health Policy Analyst, Office of Biotechnology Activities, Office of Science Policy, Office of the Director, National Institutes of Health, 6705 Rockledge Drive, Room 750, Bethesda, MD 20892-7985; telephone 301-496-9838; e-mail fennington@nih.gov.

Dated: September 1, 2010.
Amy P. Patterson,
Acting Director, Office of Science Policy, National Institutes of Health.

[FR Doc. 2010-22323 Filed 9-7-10; 8:45 am]

BILLING CODE 4140-01-P